DEPARTMENT OF HOMELAND SECURITY

Office of the Secretary

6 CFR Chs. I and II

[DHS Docket No. OGC-RP-04-001]

Unified Agenda of Federal Regulatory and Deregulatory Actions

AGENCY: Office of the Secretary, DHS.

ACTION: Semiannual regulatory agenda.

SUMMARY: This regulatory agenda is a semiannual summary of projected regulations, existing regulations, and completed actions of the Department of Homeland Security (DHS) and its components. This agenda provides the public with information about DHS's regulatory and deregulatory activity. DHS expects that this information will enable the public to be more aware of, and effectively participate in, the Department's regulatory and deregulatory activity. DHS invites the public to submit comments on any aspect of this agenda.

FOR FURTHER INFORMATION CONTACT:

General

Please direct general comments and inquiries on the agenda to the Regulatory Affairs Law Division, Office of the General Counsel, U.S. Department of Homeland Security, 2707 Martin Luther King Jr. Avenue SE, Mail Stop 0485, Washington, DC 20528-0485.

Specific

Please direct specific comments and inquiries on individual actions identified in this agenda to the individual listed in the summary portion as the point of contact for that action.

SUPPLEMENTARY INFORMATION: DHS provides this notice pursuant to the requirements of the Regulatory Flexibility Act (Pub. L. 96-354, Sept. 19, 1980) and Executive Order 12866 “Regulatory Planning and Review” (Sept. 30, 1993) as incorporated in Executive Order 13563 “Improving Regulation and Regulatory Review” (Jan. 18, 2011), which require the Department to publish a semiannual agenda of regulations. The regulatory agenda is a summary of existing and projected regulations as well as actions completed since the publication of the last regulatory agenda for the Department. DHS's last semiannual regulatory agenda was published online on December 9, 2020, at http://www.reginfo.gov/public/do/eAgendaMain.

Beginning in fall 2007, the internet became the basic means for disseminating the Unified Agenda. The complete Unified Agenda is available online at www.reginfo.gov.

The Regulatory Flexibility Act (5 U.S.C. 602) requires Federal agencies to publish their regulatory flexibility agendas in the Federal Register. A regulatory flexibility agenda shall contain, among other things, a brief description of the subject area of any rule which is likely to have a significant economic impact on a substantial number of small entities. DHS's printed agenda entries include regulatory actions that are in the Department's regulatory flexibility agenda. Printing of these entries is limited to fields that contain information required by the agenda provisions of the Regulatory Flexibility Act. Additional information on these entries is available in the Unified Agenda published on the internet.

The semiannual agenda of the Department conforms to the Unified Agenda format developed by the Regulatory Information Service Center.

Dated: March 17, 2021.
Christina E. McDonald,
Associate General Counsel for Regulatory Affairs.

Office of the Secretary—Final Rule Stage
Sequence No. | Title | Regulation Identifier No.
121 | Homeland Security Acquisition Regulation: Safeguarding of Controlled Unclassified Sensitive Information (HSAR Case 2015-001) | 1601-AA76
122 | Homeland Security Acquisition Regulation: Information Technology Security Awareness Training (HSAR Case 2015-002) | 1601-AA78

Office of the Secretary—Long-Term Actions
Sequence No. | Title | Regulation Identifier No.
123 | Homeland Security Acquisition Regulation, Enhancement of Whistleblower Protections for Contractor Employees | 1601-AA72

U.S. Citizenship and Immigration Services—Proposed Rule Stage
Sequence No. | Title | Regulation Identifier No.
124 | U.S. Citizenship and Immigration Services Fee Schedule | 1615-AC68

U.S. Citizenship and Immigration Services—Long-Term Actions
Sequence No. | Title | Regulation Identifier No.
125 | Requirements for Filing Motions and Administrative Appeals | 1615-AB98

U.S. Citizenship and Immigration Services—Completed Actions
Sequence No. | Title | Regulation Identifier No.
126 | Removal of International Entrepreneur Parole Program | 1615-AC04
127 | Collection and Use of Biometrics by U.S. Citizenship and Immigration Services | 1615-AC14
128 | U.S. Citizenship and Immigration Services Fee Schedule and Changes to Certain Other Immigration Benefit Request Requirements | 1615-AC18
129 | Employment Authorization for Certain Classes of Noncitizens With Final Orders of Removal | 1615-AC40
130 | Short-Term Extension for E-Verify Employers in the H-2A Program | 1615-AC51

U.S. Coast Guard—Proposed Rule Stage
Sequence No. | Title | Regulation Identifier No.
131 | Lifejacket Approval Harmonization | 1625-AC62

U.S. Coast Guard—Final Rule Stage
Sequence No. | Title | Regulation Identifier No.
132 | Financial Responsibility—Vessels; Superseded Pollution Funds (USCG-2017-0788) | 1625-AC39

U.S. Coast Guard—Long-Term Actions
Sequence No. | Title | Regulation Identifier No.
133 | Claims Procedures Under the Oil Pollution Act of 1990 (USCG-2004-17697) | 1625-AA03
134 | Commercial Fishing Vessels—Implementation of 2010 and 2012 Legislation | 1625-AB85

U.S. Customs and Border Protection—Long-Term Actions
Sequence No. | Title | Regulation Identifier No.
135 | Importer Security Filing and Additional Carrier Requirements (Section 610 Review) | 1651-AA70
136 | Implementation of the Guam-CNMI Visa Waiver Program (Section 610 Review) | 1651-AA77

U.S. Immigration and Customs Enforcement—Proposed Rule Stage
Sequence No. | Title | Regulation Identifier No.
137 | Visa Security Program Fee | 1653-AA77
138 | Establishing a Fixed Time Period of Admission and an Extension of Stay Procedure for Nonimmigrant Academic Students, Exchange Visitors, and Representatives of Foreign Information Media | 1653-AA78

U.S. Immigration and Customs Enforcement—Completed Actions
Sequence No. | Title | Regulation Identifier No.
139 | Adjusting Program Fees for the Student and Exchange Visitor Program | 1653-AA81

Cybersecurity and Infrastructure Security Agency—Proposed Rule Stage
Sequence No. | Title | Regulation Identifier No.
140 | Ammonium Nitrate Security Program | 1670-AA00

Cybersecurity and Infrastructure Security Agency—Long-Term Actions
Sequence No. | Title | Regulation Identifier No.
141 | Chemical Facility Anti-Terrorism Standards (CFATS) | 1670-AA01

DEPARTMENT OF HOMELAND SECURITY (DHS)

Office of the Secretary (OS)

Final Rule Stage

121. Homeland Security Acquisition Regulation: Safeguarding of Controlled Unclassified Sensitive Information (HSAR Case 2015-001)

Legal Authority: 5 U.S.C. 301 to 302; 41 U.S.C. 1302, 1303 and 1707

Abstract: This Homeland Security Acquisition Regulation (HSAR) rule would implement security and privacy measures to ensure Controlled Unclassified Information (CUI), such as Personally Identifiable Information (PII), is adequately safeguarded by DHS contractors. Specifically, the rule would define key terms, outline security requirements and inspection provisions for contractor information technology (IT) systems that store, process or transmit CUI, institute incident notification and response procedures, and identify post-incident credit monitoring requirements.

Timetable:

Action | Date | FR Cite
NPRM | 01/19/17 | 82 FR 6429
NPRM Comment Period End | 03/20/17 |
NPRM Comment Period Extended | 03/20/17 | 82 FR 14341
NPRM Comment Period Extended End | 04/19/17 |
Final Rule | 12/00/21 |

Regulatory Flexibility Analysis Required: Yes.

Agency Contact: Shaundra Ford, Procurement Analyst, Department of Homeland Security, Office of the Chief Procurement Officer, Acquisition Policy and Legislation, 245 Murray Lane SW, Washington, DC 20528, Phone: 202 447-0056, Email: shaundra.ford@hq.dhs.gov.

Nancy Harvey, Policy Analyst, Department of Homeland Security, Office of the Chief Procurement Officer, Room 3636-15, 301 7th Street SW, Washington, DC 20528, Phone: 202 447-0956, Email: nancy.harvey@hq.dhs.gov.

RIN: 1601-AA76

122. Homeland Security Acquisition Regulation: Information Technology Security Awareness Training (HSAR Case 2015-002)

Legal Authority: 5 U.S.C. 301 and 302; 41 U.S.C. 1707, 1302 and 1303

Abstract: This Homeland Security Acquisition Regulation (HSAR) rule would standardize information technology security awareness training and DHS Rules of Behavior requirements for contractor and subcontractor employees who access DHS information systems and information resources or contractor-owned and/or operated information systems and information resources capable of collecting, processing, storing, or transmitting controlled unclassified information (CUI).

Timetable:

Action | Date | FR Cite
NPRM | 01/19/17 | 82 FR 6446
NPRM Comment Period End | 03/20/17 |
NPRM Comment Period Extended | 03/20/17 | 82 FR 14341
NPRM Comment Period Extended End | 04/19/17 |
Final Rule | 12/00/21 |

Regulatory Flexibility Analysis Required: Yes.

Agency Contact: Shaundra Ford, Procurement Analyst, Department of Homeland Security, Office of the Chief Procurement Officer, Acquisition Policy and Legislation, 245 Murray Lane SW, Washington, DC 20528, Phone: 202 447-0056, Email: shaundra.ford@hq.dhs.gov.

Nancy Harvey, Policy Analyst, Department of Homeland Security, Office of the Chief Procurement Officer, Room 3636-15, 301 7th Street SW, Washington, DC 20528, Phone: 202 447-0956, Email: nancy.harvey@hq.dhs.gov.

RIN: 1601-AA78

DEPARTMENT OF HOMELAND SECURITY (DHS)

Office of the Secretary (OS)

Long-Term Actions

123. Homeland Security Acquisition Regulation, Enhancement of Whistleblower Protections for Contractor Employees

Legal Authority: sec. 827 of the National Defense Authorization Act (NDAA) for Fiscal Year 2013, (Pub. L. 112-239, enacted January 2, 2013); 41 U.S.C. 1302(a)(2) and 1707

Abstract: The Department of Homeland Security (DHS) is proposing to amend its Homeland Security Acquisition Regulation (HSAR) parts 3003 and 3052 to implement section 827 of the National Defense Authorization Act (NDAA) for Fiscal Year (FY) 2013 (Pub. L. 112-239, enacted January 2, 2013) for the United States Coast Guard (USCG). Section 827 of the NDAA for FY 2013 established enhancements to the Whistleblower Protections for Contractor Employees for all agencies subject to section 2409 of title 10, United States Code, which includes the USCG.

Timetable:

Action | Date | FR Cite
NPRM | 05/00/22 |

Regulatory Flexibility Analysis Required: Yes.

Agency Contact: Nancy Harvey, Policy Analyst, Department of Homeland Security, Office of the Chief Procurement Officer, Room 3636-15, 301 7th Street SW, Washington, DC 20528, Phone: 202 447-0956, Email: nancy.harvey@hq.dhs.gov.

RIN: 1601-AA72

DEPARTMENT OF HOMELAND SECURITY (DHS)

U.S. Citizenship and Immigration Services (USCIS)

Proposed Rule Stage

124. • U.S. Citizenship and Immigration Services Fee Schedule

Legal Authority: 8 U.S.C. 1356(m), (n)

Abstract: DHS will propose to adjust the fees charged by U.S. Citizenship and Immigration Services (USCIS) for immigration and naturalization benefit requests. On August 3, 2020, DHS adjusted the fees USCIS charges for immigration and naturalization benefit requests, imposed new fees, revised certain fee waiver and exemption policies, and changed certain application requirements via the rule “USCIS Fee Schedule & Changes to Certain Other Immigration Benefit Request Requirements.” DHS has been preliminarily enjoined from implementing that rule by court order. This rule would rescind and replace the changes made by the August 3, 2020, rule and establish new USCIS fees to recover USCIS operating costs.

Timetable:

Action | Date | FR Cite
NPRM | 11/00/21 |

Regulatory Flexibility Analysis Required: Yes.

Agency Contact: Kika M. Scott, Chief Financial Officer, Department of Homeland Security, U.S. Citizenship and Immigration Services, 5900 Capital Gateway Drive, Suite 4S190, Camp Springs, MD 20588-0009, Phone: 202 721-3000.

RIN: 1615-AC68

DEPARTMENT OF HOMELAND SECURITY (DHS)

U.S. Citizenship and Immigration Services (USCIS)

Long-Term Actions

125. Requirements for Filing Motions and Administrative Appeals

Legal Authority: 5 U.S.C. 552 and 552a; 8 U.S.C. 1101, 1103 and 1304; 6 U.S.C. 112

Abstract: The Department of Homeland Security (DHS) is proposing this rule to improve the administration of U.S. Citizenship and Immigration Services (USCIS) appeals, motions, and certifications. The proposed changes would update and restructure the regulations in order to clarify and streamline the administrative review process, increase efficiency, and reflect the establishment of DHS and its components.

Timetable:

Action | Date | FR Cite
NPRM | 05/00/22 |

Regulatory Flexibility Analysis Required: Yes.

Agency Contact: William K. Renwick, Jr., Branch Chief, Department of Homeland Security, U.S. Citizenship and Immigration Services, Administrative Appeals Office, 5900 Capital Gateway Drive, Suite 4S190, Camp Springs, MD 20588-0009, Phone: 202 721-3000.

RIN: 1615-AB98

DEPARTMENT OF HOMELAND SECURITY (DHS)

U.S. Citizenship and Immigration Services (USCIS)

Completed Actions

126. Removal of International Entrepreneur Parole Program

Legal Authority: 8 U.S.C. 1182(d)(5)(A)

Abstract: On January 17, 2017, DHS published the International Entrepreneur Final Rule (the IE final rule) in the Federal Register at 82 FR 5238, with an original effective date of July 17, 2017. On May 29, 2018, DHS published a notice of proposed rulemaking (NPRM) proposing to remove the international entrepreneur parole program from DHS regulations and solicited public comments on the proposal. DHS is withdrawing the May 29, 2018, proposed rule. The May 29, 2018, proposed rule relied on the direction from E.O. 13767. On February 2, 2021, President Biden issued Executive Order 14010 which revoked Executive Order 13767, and issued Executive Order 14012, which directed agencies to identify actions that fail to promote access to the legal immigration system.

Timetable:

Action | Date | FR Cite
NPRM | 08/31/16 | 81 FR 60129
NPRM Comment Period End | 10/17/16 |
Final Rule | 01/17/17 | 82 FR 5238
Final Rule Delay of Effective Date | 07/11/17 | 82 FR 31887
Final Rule Effective | 07/17/17 |
NPRM—Removal of International Entrepreneur Parole Program | 05/29/18 | 83 FR 24415
NPRM Comment Period End-Removal of International Entrepreneur Parole Program | 06/28/18 |
Notice of Withdrawal | 05/11/21 | 86 FR 25809

Regulatory Flexibility Analysis Required: Yes.

Agency Contact: Charles Nimick, Chief, Business and Foreign Workers Division, Office of Policy and Strategy, Department of Homeland Security, U.S. Citizenship and Immigration Services, 5900 Capital Gateway Drive, Suite 4S190, Camp Springs, MD 20588-0009, Phone: 240 721-3000.

RIN: 1615-AC04

127. Collection and Use of Biometrics by U.S. Citizenship and Immigration Services

Legal Authority: 8 U.S.C. 1103(a); 8. U.S.C. 1444 to 1446; 8 U.S.C. 1365a and 1365b; 8 U.S.C. 1304(a); Pub. L. 107-56; Pub. L. 107-173; Pub. L. 109-248, sec. 402(a) and 402(b)

Abstract: On September 11, 2020, the Department of Homeland Security (DHS) proposed to update its regulations to eliminate multiple references to specific biometric types, and to allow for the expansion of the types of biometrics required to establish and verify an identity. DHS also proposed to modify age restrictions where they exist to detect, deter, or prevent human trafficking of children; establish consistent identity enrollment and verification policies and processes; and align U.S. Citizenship and Immigration Services (USCIS) biometric collection with other immigration operations. The DHS proposal also provided a definition to the public on the term biometric and how biometrics will be used in the immigration process. DHS is withdrawing the NPRM published on September 11, 2020. DHS remains committed to ensuring national security, fraud prevention and program integrity. DHS will look to pursue future rulemaking that balances those commitments while also ensuring sufficient privacy protections, civil liberty protections, and without hindering access to the immigration system.

Timetable:

Action | Date | FR Cite
NPRM | 09/11/20 | 85 FR 56338
NPRM Comment Period End | 10/13/20 |
Notice of Withdrawal | 05/10/21 | 86 FR 24750

Regulatory Flexibility Analysis Required: Yes.

Agency Contact: Steven P. Kvortek, Acting Division Chief, Security and Public Safety Division, Office of Policy and Strategy, Department of Homeland Security, U.S. Citizenship and Immigration Services, 5900 Capital Gateway Drive, Suite 4S190, Camp Springs, MD 20588-0009, Phone: 202 721-3000.

RIN: 1615-AC14

128. U.S. Citizenship and Immigration Services Fee Schedule and Changes to Certain Other Immigration Benefit Request Requirements

Legal Authority: 8 U.S.C. 1356(m)

Abstract: The Department of Homeland Security (DHS), U.S. Citizenship and Immigration Services (USCIS) conducted a FY 2019/2020 fee review for its Immigration Examinations Fee Account (IEFA), pursuant to the requirements of the Chief Financial Officers Act of 1990 (CFO Act), 31 U.S.C. 901-03 and the Immigration and Nationality Act, section 286(m), 8 U.S.C. 1356(m). The CFO Act requires each agency's chief financial officer to “review, on a biennial basis, the fees, royalties, rents, and other charges imposed by the agency for services and things of value it provides, and make recommendations on revising those charges to reflect costs incurred by it in providing those services and things of value.” As a result of the FY 2019/2020 IEFA fee review, and following full consideration of public comments, DHS published its final rule (85 FR 46788) on August 3, 2020 with an effective date of October 2, 2020. DHS has been preliminarily enjoined from implementing that rule by court order. In Executive Order 14010 of February 2, 2021, the President directed DHS to identify any agency actions that fail to promote access to the legal immigration system including the 2020 final rule, in light of the Emergency Stopgap USCIS Stabilization Act (title I of division D of Pub. L. 116-159) and recommend steps, as appropriate and consistent with applicable law, to revise or rescind those agency actions.

Timetable:

Action | Date | FR Cite
NPRM | 11/14/19 | 84 FR 62280
NPRM Comment Period Extended | 12/09/19 | 84 FR 67243
NPRM Comment Period End | 12/16/19 |
NPRM Comment Period Extended End | 12/30/19 |
NPRM Comment Period Reopened | 01/24/20 | 85 FR 4243
NPRM Comment Period Reopened End | 02/10/20 |
Final Action | 08/03/20 | 85 FR 46788
Correction | 08/17/20 | 85 FR 49941
Correction | 08/31/20 | 85 FR 53645
Final Action Effective | 10/02/20 |
Notice of Preliminary Injunction | 01/29/21 | 86 FR 7493

Regulatory Flexibility Analysis Required: Yes.

Agency Contact: Kika M. Scott, Chief Financial Officer, Department of Homeland Security, U.S. Citizenship and Immigration Services, 5900 Capital Gateway Drive, Suite 4S190, Camp Springs, MD 20588-0009, Phone: 202 721-3000.

RIN: 1615-AC18

129. Employment Authorization for Certain Classes of Noncitizens With Final Orders of Removal

Legal Authority: 8 U.S.C. 1158; 8 U.S.C. 1231; 8 U.S.C. 1324a

Abstract: On November 19, 2020, DHS proposed to amend its regulations to eliminate eligibility for employment authorization for certain noncitizens who have final orders of removal but are temporarily released from custody on an order of supervision (OSUP), with limited exceptions. DHS also proposed to include new eligibility requirements and expand the discretionary factors DHS will consider for noncitizens on OSUP who continue to qualify for employment authorization under the new regulatory framework. DHS is withdrawing the November 19, 2020, proposed rule because Executive Orders 13993 and 14005 have revoked the executive orders that were the basis for the proposed rule.

Timetable:

Action | Date | FR Cite
NPRM | 11/19/20 | 85 FR 74196
NPRM Comment Period End (for rule only) | 12/21/20 |
Notice of Withdrawal | 05/10/21 | 86 FR 24751

Regulatory Flexibility Analysis Required: Yes.

Agency Contact: Steven Kvortek, Acting Division Chief, Security and Public Safety Division, Office of Policy and Strategy, Department of Homeland Security, U.S. Citizenship and Immigration Services, 5900 Capital Gateway Drive, Suite 4S190, Camp Springs, MD 20588-0009, Phone: 240 721-3000.

RIN: 1615-AC40

130. Short-Term Extension for E-Verify Employers in the H-2A Program

Legal Authority: Pub. L. 107-296, sec. 116; 6 U.S.C. 112; 8 U.S.C. 1103(a), 1184(a)(1), and 1324a(h)(3)(B)

Abstract: The Department of Homeland Security (DHS) proposed to amend its regulations regarding short-term extensions for U.S. employers seeking temporary or seasonal agricultural nonimmigrant workers in the H-2A program to provide a short- term extension of the H-2A petition validity period by up to 2 weeks (14 days) to petitioning employers who are participants in good standing in E-Verify. The E-Verify petitioner may request the short-term extension at the time of the initial H-2A petition, or the petitioner may file a new H-2A petition to request the short-term extension. This proposal would allow H-2A workers to continue their H-2A employment for the same petitioner and under the same terms and conditions as the valid temporary labor certification and the H-2A petition without the requirement to obtain a new temporary labor certification from the Department of Labor. DHS has determined that the proposed regulation should be withdrawn.

Timetable:

Action | Date | FR Cite
Withdrawn | 02/26/21 |

Regulatory Flexibility Analysis Required: Yes.

Agency Contact: Charles Nimick, Chief, Business and Foreign Workers Division, Office of Policy and Strategy, Department of Homeland Security, U.S. Citizenship and Immigration Services, 5900 Capital Gateway Drive, Suite 4S190, Camp Springs, MD 20588-0009, Phone: 240 721-3000.

RIN: 1615-AC51

DEPARTMENT OF HOMELAND SECURITY (DHS)

U.S. Coast Guard (USCG)

Proposed Rule Stage

131. Lifejacket Approval Harmonization

Legal Authority: 46 U.S.C. 3306(a); 46 U.S.C. 3306(b); 46 U.S.C. 4102(a); 46 U.S.C. 4102(b); 46 U.S.C. 4302(a); 46 U.S.C. 4502(a); 46 U.S.C. 4502(c)(2)(B)

Abstract: The Coast Guard proposes to amend the lifejacket approval requirements and follow-up program requirements by incorporating three new bi-national standards. At the same time, the Coast Guard proposes to amend lifejacket and personal flotation devices (PFD) carriage requirements to allow for the use of equipment approved to the new standards, and to remove obsolete equipment approval requirements. The new standards are state-of-the-art and are intended to replace the legacy standards. The proposed amendments will streamline the process for approval of PFDs and allow manufacturers the opportunity to produce more innovative equipment that meets the approval requirements of both Canada and the United States, while reducing the burden for manufacturers in both the approval process and follow-up program. These proposed changes are expected to promote economic relief. The proposed rule is expected to promote economic relief by reducing the regulatory burden on PFD manufacturers by harmonizing our PFD approval standards with Canada, requiring less frequent inspections of manufacturing facilities, providing lower cost PFD user manuals, and by creating a new market in PFDs with a lower buoyancy rating.

Timetable:

Action | Date | FR Cite
NPRM | 08/00/21 |

Regulatory Flexibility Analysis Required: Yes.

Agency Contact: Jacqueline M. Yurkovich, Project Manager (CG-ENG-4), Department of Homeland Security, U.S. Coast Guard, 2703 Martin Luther King Jr. Avenue SE, STOP 7509, Washington, DC 20593-7509, Phone: 202 372-1389, Email: jacqueline.m.yurkovich@uscg.mil.

RIN: 1625-AC62

DEPARTMENT OF HOMELAND SECURITY (DHS)

U.S. Coast Guard (USCG)

Final Rule Stage

132. Financial Responsibility—Vessels; Superseded Pollution Funds (USCG-2017-0788)

Legal Authority: 33 U.S.C. 2704; 33 U.S.C. 2716 and 2716a; 42 U.S.C. 9607 to 9609; 6 U.S.C. 552; E.O. 12580; sec. 7(b), 3 CFR, 1987; Comp., p. 193; E.O. 12777, secs. 4 and 5, 3 CFR, 1991 Comp., p. 351, as amended by E.O. 13286, sec. 89, 3; 3 CFR, 2004 Comp., p. 166, and by E.O. 13638, sec. 1, 3 CFR, 2014 Comp., p.227; Department of Homeland; Security Delegation Nos. 0170.1 and 5110, Revision 01

Abstract: The Coast Guard has proposed to amend its rule on vessel financial responsibility to include tank vessels greater than 100 gross tons, to clarify and strengthen the rule's reporting requirements, to conform its rule to current practice, and to remove two superseded regulations. This rulemaking will ensure the Coast Guard has current information when there are significant changes in a vessel's operation, ownership, or evidence of financial responsibility, and reflect current best practices in the Coast Guard's management of the Certificate of Financial Responsibility Program. This rulemaking will also promote the Coast Guard's missions of maritime stewardship, maritime security, and maritime safety.

Timetable:

Action | Date | FR Cite
NPRM | 05/13/20 | 85 FR 28802
NPRM Comment Period End | 08/11/20 |
Final Rule | 08/00/21 |

Regulatory Flexibility Analysis Required: Yes.

Agency Contact: Benjamin White, Project Manager, National Pollution Funds Center, Department of Homeland Security, U.S. Coast Guard, 2703 Martin Luther King Jr. Avenue SE, STOP 7605, Washington, DC 20593-7605, Phone: 202 795-6066, Email: benjamin.h.white@uscg.mil.

RIN: 1625-AC39

DEPARTMENT OF HOMELAND SECURITY (DHS)

U.S. Coast Guard (USCG)

Long-Term Actions

133. Claims Procedures Under the Oil Pollution Act of 1990 (USCG-2004-17697)

Legal Authority: 33 U.S.C. 2713 and 2714

Abstract: The purpose of this project is to remove superseded regulations at 33 Code of Federal Regulations (CFR) part 135, and to finalize the Oil Pollution Act of 1990 (OPA'90) claims procedures at 33 CFR part 136. The OPA'90 claims procedures, implementing OPA'90 section 1013 (Claims Procedures) and section 1014 (Designation of Source and Advertisement), were established by an interim rule, titled “Claims under the Oil Pollution Act of 1990” (Interim Rule) that has not been substantively amended since it was published in 1992. This rulemaking supports the Coast Guard's strategic goal of protection of natural resources.

Timetable:

Action | Date | FR Cite
Interim Final Rule | 08/12/92 | 57 FR 36314
Correction | 09/09/92 | 57 FR 41104
Interim Final Rule Comment Period End | 12/10/92 |
Notice of Inquiry | 11/01/11 | 76 FR 67385
Notice of Inquiry Comment Period End | 01/30/12
NPRM | To Be Determined

Regulatory Flexibility Analysis Required: Yes.

Agency Contact: Benjamin White, Project Manager, National Pollution Funds Center, Department of Homeland Security, U.S. Coast Guard, 2703 Martin Luther King Jr. Avenue SE, STOP 7605, Washington, DC 20593-7605, Phone: 202 795-6066, Email: benjamin.h.white@uscg.mil.

RIN: 1625-AA03

134. Commercial Fishing Vessels—Implementation of 2010 and 2012 Legislation

Legal Authority: 46 U.S.C. 4502 and 5103; Pub. L. 111-281

Abstract: The Coast Guard proposes to implement those requirements of 2010 and 2012 legislation that pertain to uninspected commercial fishing industry vessels and that took effect upon enactment of the legislation but that, to be implemented, require amendments to Coast Guard regulations affecting those vessels. The applicability of the regulations is being changed, and new requirements are being added to safety training, equipment, vessel examinations, vessel safety standards, the documentation of maintenance, and the termination of unsafe operations. This rulemaking promotes the Coast Guard's maritime safety mission.

Timetable:

Action | Date | FR Cite
NPRM | 06/21/16 | 81 FR 40437
NPRM Comment Period Extended | 08/15/16 | 81 FR 53986
NPRM Comment Period End | 10/19/16 |
NPRM Comment Period Extended End | 12/18/16
Final Rule | To Be Determined

Regulatory Flexibility Analysis Required: Yes.

Agency Contact: Joseph Myers, Project Manager, Department of Homeland Security, U.S. Coast Guard, 2703 Martin Luther King Jr. Avenue SE, STOP 7501, Washington, DC 20593-7501, Phone: 202 372-1249, Email: joseph.d.myers@uscg.mil.

RIN: 1625-AB85

DEPARTMENT OF HOMELAND SECURITY (DHS)

U.S. Customs and Border Protection (USCBP)

Long-Term Actions

135. Importer Security Filing and Additional Carrier Requirements (Section 610 Review)

Legal Authority: Pub. L. 109-347, sec. 203; 5 U.S.C. 301; 19 U.S.C. 66; 19 U.S.C. 1431; 19 U.S.C. 1433 and 1434; 19 U.S.C. 1624; 19 U.S.C. 2071 (note); 46 U.S.C. 60105

Abstract: This final rule implements the provisions of section 203 of the Security and Accountability for Every Port Act of 2006. On November 25, 2008, Customs and Border Protection (CBP) published an interim final rule (CBP Dec. 08-46) in the Federal Register (73 FR 71730), that finalized most of the provisions proposed in the Notice of Proposed Rulemaking. It requires carrier and importers to provide to CBP, via a CBP approved electronic data interchange system, certain advance information pertaining to cargo brought into the United States by vessel to enable CBP to identify high-risk shipments to prevent smuggling and ensure cargo safety and security. The interim final rule did not finalize six data elements that were identified as areas of potential concern for industry during the rulemaking process and, for which, CBP provided some type of flexibility for compliance with those data elements. CBP solicited public comment on these six data elements and also invited comments on the revised Regulatory Assessment and Final Regulatory Flexibility Analysis. (See 73 FR 71782-85 for regulatory text and 73 CFR 71733-34 for general discussion.)

Timetable:

Action | Date | FR Cite
NPRM | 01/02/08 | 73 FR 90
NPRM Comment Period End | 03/03/08
NPRM Comment Period Extended | 02/01/08 | 73 FR 6061
NPRM Comment Period Extended End | 03/18/08
Interim Final Rule | 11/25/08 | 73 FR 71730
Interim Final Rule Effective | 01/26/09
Interim Final Rule Comment Period End | 06/01/09
Correction | 07/14/09 | 74 FR 33920
Correction | 12/24/09 | 74 FR 68376
Next Action Undetermined

Regulatory Flexibility Analysis Required: Yes.

Agency Contact: Brian Sale, Branch Chief, Manifest & Conveyance Security Division, Cargo & Conveyance, Office of Field Operation, Department of Homeland Security, U.S. Customs and Border Protection, 1300 Pennsylvania Avenue NW, Washington, DC 20229, Phone: 202 325-3338, Email: brian.a.sale@cbp.dhs.gov.

RIN: 1651-AA70

136. Implementation of the Guam-CNMI Visa Waiver Program (Section 610 Review)

Legal Authority: Pub. L. 110-229, sec. 702

Abstract: The interim final rule amends Department of Homeland Security (DHS) regulations to implement section 702 of the Consolidated Natural Resources Act of 2008 (CNRA). This law extends the immigration laws of the United States to the Commonwealth of the Northern Mariana Islands (CNMI) and provides for a joint visa waiver program for travel to Guam and the CNMI. This rule implements section 702 of the CNRA by amending the regulations to replace the current Guam Visa Waiver Program with a new Guam-CNMI Visa Waiver Program. The amended regulations set forth the requirements for nonimmigrant visitors who seek admission for business or pleasure and solely for entry into and stay on Guam or the CNMI without a visa. This rule also establishes six ports of entry in the CNMI for purposes of administering and enforcing the Guam-CNMI Visa Waiver Program. Section 702 of the Consolidated Natural Resources Act of 2008 (CNRA), subject to a transition period, extends the immigration laws of the United States to the Commonwealth of the Northern Mariana Islands (CNMI) and provides for a visa waiver program for travel to Guam and/or the CNMI. On January 16, 2009, the Department of Homeland Security (DHS), Customs and Border Protection (CBP), issued an interim final rule in the Federal Register replacing the then-existing Guam Visa Waiver Program with the Guam-CNMI Visa Waiver Program and setting forth the requirements for nonimmigrant visitors seeking admission into Guam and/or the CNMI under the Guam-CNMI Visa Waiver Program. As of November 28, 2009, the Guam-CNMI Visa Waiver Program is operational. This program allows nonimmigrant visitors from eligible countries to seek admission for business or pleasure for entry into Guam and/or the CNMI without a visa for a period of authorized stay not to exceed 45 days. This rulemaking would finalize the January 2009 interim final rule.

Timetable:

Action | Date | FR Cite
Interim Final Rule | 01/16/09 | 74 FR 2824
Interim Final Rule Effective | 01/16/09 |
Interim Final Rule Comment Period End | 03/17/09 |
Technical Amendment; Change of Implementation Date | 05/28/09 | 74 FR 25387
Final Action | To Be Determined

Regulatory Flexibility Analysis Required: No.

Agency Contact: Neyda I. Yejo, Program Manager, Electronic System for Travel Authorization, Office of Field Operations, Department of Homeland Security, U.S. Customs and Border Protection, 1300 Pennsylvania Avenue NW, Washington, DC 20229, Phone: 202 344-2373, Email: neyda.i.yejo@cbp.dhs.gov.

RIN: 1651-AA77

DEPARTMENT OF HOMELAND SECURITY (DHS)

U.S. Immigration and Customs Enforcement (USICE)

Proposed Rule Stage

137. Visa Security Program Fee

Legal Authority: 8 U.S.C. 1356

Abstract: ICE seeks to enable the expansion of the Visa Security Program (VSP) by proposing to move it to a user-fee funded model (as opposed to relying on appropriations). The VSP leverages resources in the National Capital Region (NCR) and at U.S. diplomatic posts overseas to vet and screen visa applicants; identifies and prevents the travel of those who constitute potential national security and/or public safety threats; and launches investigations into criminal and/or terrorist affiliated networks operating in the U.S. and abroad. The fees collected as a result of this rule would fund an expansion of the VSP, enabling ICE to extend visa security screening and vetting operations and investigative efforts to more visa-issuing posts overseas, and in turn, enhance the U.S. government's ability to prevent travel to the United States by illicit actors.

Timetable:

Action | Date | FR Cite
NPRM | 01/00/22 |

Regulatory Flexibility Analysis Required: Yes.

Agency Contact: Sharon Hageman, Regulations Unit Chief, Department of Homeland Security, U.S. Immigration and Customs Enforcement, 500 12th Street SW, Mail Stop 5006, Washington, DC 20536, Phone: 202 732-6960, Email: sharon.hageman@ice.dhs.gov.

RIN: 1653-AA77

138. Establishing a Fixed Time Period of Admission and an Extension of Stay Procedure for Nonimmigrant Academic Students, Exchange Visitors, and Representatives of Foreign Information Media

Legal Authority: 8 U.S.C. 1101; 8 U.S.C. 1103; 8 U.S.C. 1182 and 1184

Abstract: DHS intends to withdraw this proposed rule. U.S. Immigration and Customs Enforcement (ICE) originally proposed modifying the period of authorized stay for certain categories of nonimmigrants traveling to the United States by eliminating the availability of “duration of status” and by providing a maximum period of authorized stay with options for extensions for each applicable visa category.

Timetable:

Action | Date | FR Cite
NPRM | 09/25/20 | 85 FR 60256
NPRM Comment Period End | 10/26/20 |
Notice of Withdrawal | 06/00/21 |

Regulatory Flexibility Analysis Required: Yes.

Agency Contact: Sharon Hageman, Regulations Unit Chief, Department of Homeland Security, U.S. Immigration and Customs Enforcement, 500 12th Street SW, Mail Stop 5006, Washington, DC 20536, Phone: 202 732-6960, Email: sharon.hageman@ice.dhs.gov.

RIN: 1653-AA78

DEPARTMENT OF HOMELAND SECURITY (DHS)

U.S. Immigration and Customs Enforcement (USICE)

Completed Actions

139. Adjusting Program Fees for the Student and Exchange Visitor Program

Legal Authority: 8 U.S.C. 1372(e); 8 U.S.C. 1372(g); 8 U.S.C. 1356(m); 8 U.S.C. 1356(n)

Abstract: DHS has determined that the proposed regulation entry should be withdrawn from the Unified Agenda. ICE intended to propose a regulation to adjust fees that the Student and Exchange Visitor Program (SEVP) charges individuals and organizations to improve compliance and enforcement related to nonimmigrant students. The SEVP fee schedule was last adjusted in a rule published on May 23, 2019.

Timetable:

Action | Date | FR Cite
Withdrawn | 03/08/21 |

Regulatory Flexibility Analysis Required: Yes.

Agency Contact: Sharon Hageman, Regulations Unit Chief, Department of Homeland Security, U.S. Immigration and Customs Enforcement, 500 12th Street SW, Mail Stop 5006, Washington, DC 20536, Phone: 202 732-6960, Email: sharon.hageman@ice.dhs.gov.

RIN: 1653-AA81

DEPARTMENT OF HOMELAND SECURITY (DHS)

Cybersecurity and Infrastructure Security Agency (CISA)

Proposed Rule Stage

140. Ammonium Nitrate Security Program

Legal Authority: 6 U.S.C. 488 et seq.

Abstract: The Cybersecurity and Infrastructure Security Agency (CISA) is proposing a rulemaking to implement the December 2007 amendment to the Homeland Security Act titled “Secure Handling of Ammonium Nitrate.” The amendment requires the Department of Homeland Security to “regulate the sale and transfer of ammonium nitrate by an ammonium nitrate facility . . . to prevent the misappropriation or use of ammonium nitrate in an act of terrorism.” CISA previously issued a Notice of Proposed Rulemaking (NPRM) on August 3, 2011. CISA is planning to issue a Supplemental Notice of Proposed Rulemaking (SNPRM).

Timetable:

Action | Date | FR Cite
ANPRM | 10/29/08 | 73 FR 64280
ANPRM Correction | 11/05/08 | 73 FR 65783
ANPRM Comment Period End | 12/29/08 |
NPRM | 08/03/11 | 76 FR 46908
Notice of Public Meetings | 10/07/11 | 76 FR 62311
Notice of Public Meetings | 11/14/11 | 76 FR 70366
NPRM Comment Period End | 12/01/11 |
Notice of Availability | 06/03/19 | 84 FR 25495
Notice of Availability Comment Period End | 09/03/19 |
Supplemental NPRM | 11/00/21 |

Regulatory Flexibility Analysis Required: Yes.

Agency Contact: Lona Saccomando, Chemical Facility of Interest (CFOI) Coordinator, Department of Homeland Security, Cybersecurity and Infrastructure Security Agency, 245 Murray Lane SW, Mail Stop 0610, Arlington, VA 20528-0610, Phone: 703 603-4898, Email: lona.saccomando@cisa.dhs.gov.

RIN: 1670-AA00

DEPARTMENT OF HOMELAND SECURITY (DHS)

Cybersecurity and Infrastructure Security Agency (CISA)

Long-Term Actions

141. Chemical Facility Anti-Terrorism Standards (CFATS)

Legal Authority: 6 U.S.C. 621 to 629

Abstract: The Cybersecurity and Infrastructure Security Agency (CISA) previously invited public comment on an Advance Notice of Proposed Rulemaking (ANPRM) for potential revisions to the Chemical Facility Anti-Terrorism Standards (CFATS) regulations. The ANPRM provided an opportunity for the public to provide recommendations for possible program changes. Taking into consideration the comments received, the Cybersecurity and Infrastructure Security Agency (CISA) has determined to limit the scope of this rulemaking to improving Appendix A to the CFATS regulations and address concerns with release-flammable security issues. Additionally, in June 2020, CISA published a notice announcing the availability of a retrospective analysis of the data, assumptions, and methodology that were used to support the 2007 CFATS interim final rule and provided the public an opportunity to provide comment. CISA is reviewing the comments received on the retrospective analysis and determining the next appropriate step for this rulemaking.

Timetable:

Action | Date | FR Cite
ANPRM | 08/18/14 | 79 FR 48693
ANPRM Comment Period End | 10/17/14 |
Next Action Undetermined |  |

Regulatory Flexibility Analysis Required: Yes.

Agency Contact: Lona Saccomando, Chemical Facility of Interest (CFOI) Coordinator, Department of Homeland Security, Cybersecurity and Infrastructure Security Agency, 245 Murray Lane SW, Mail Stop 0610, Arlington, VA 20528-0610, Phone: 703 603-4898, Email: lona.saccomando@cisa.dhs.gov.

RIN: 1670-AA01

[FR Doc. 2021-14871 Filed 7-29-21; 8:45 am]

BILLING CODE 9110-9B-P